DEPARTMENT OF DEFENSE

Office of the Secretary of Defense

Renewal of Department of Defense Federal Advisory Committees

AGENCY: Department of Defense.

ACTION: Notice.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Uniform Formulary Beneficiary Advisory Panel (hereafter referred to as the Panel).

The Panel is a non-discretionary federal advisory committee established by the Secretary of Defense to provide the Department of Defense, the Assistant Secretary of Defense (Health Affairs) and the Director, TRICARE Management Activity independent advice and recommendations on the development of the uniform formulary. The Panel, in accomplishing its mission: (a) Creates transparency in the policy decisions regarding the DoD Uniform Formulary; (b) provides public forum where beneficiaries may voice their opinions regarding formulary changes allowing panel members, who represent their interests, to advocate for change within their member organizations and beyond.

The Panel shall be composed of not more than 15 members, who shall include members that represent (a) Non-Government organizations and associations that represent the views and interests of a large number of eligible covered beneficiaries; (b) contractors responsible for the TRICARE retail pharmacy program; (c) contractors responsible for the national mail-order pharmacy program; and (d) TRICARE network providers. Panel members appointed by the Secretary of Defense, who are not federal officers or employees, shall be appointed as experts and consultants under the authority of 5 U.S.C. 3109 and with the exception of travel and per diem for official travel, shall serve without compensation, unless otherwise authorized by the Secretary of Defense. The Secretary of Defense shall renew the appointments of these Special Government Employees on an annual basis. The Under Secretary of Defense (Personnel and Readiness) or designed representative shall select the Panel's Chairperson from the total Panel membership.

The Panel shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Panel, and shall report all their recommendations and advice to the Panel for full deliberation and discussion. Subcommittees or workgroups have no authority to make decisions on behalf of the chartered Panel nor can they report directly to the Department of Defense or any federal officers or employees who are not Panel members.

FOR FURTHER INFORMATION CONTACT: Contact Jim Freeman, Deputy Committee Management Officer for the Department of Defense, 703-601-6128.

SUPPLEMENTARY INFORMATION: The Panel shall meet at the call of the Panel's Designated Federal Officer, in consultation with the Panel's chairperson. The Designated Federal Officer, pursuant to DoD policy, shall be a full-time or permanent part-time DoD employee, and shall be appointed in accordance with established DoD policies and procedures. The Designated Federal Officer or duly appointed Alternate Designated Federal Officer shall attend all Panel meetings and subcommittee meetings.

Pursuant to 41 CFR 102-3.105(j) and 102-3.140, the public or interested organizations may submit written statements to the Uniform Formulary Beneficiary Advisory Panel membership about the Panel's mission and functions. Written statements may be submitted at any time or in response to the stated agenda of planned meeting of the Uniform Formulary Beneficiary Advisory Panel.

All written statements shall be submitted to the Designated Federal Officer for the Uniform Formulary Beneficiary Advisory Panel, and this individual will ensure that the written statements are provided to the membership for their consideration. Contact information for the Uniform Formulary Beneficiary Advisory Panel's Designated Federal Officer can be obtained from the GSA's FACA Database— https://www.fido.gov/facadatabase/public.asp.

The Designated Federal Officer, pursuant to 41 CFR 102-3.150, will announce planned meetings of the Uniform Formulary Beneficiary Advisory Panel. The Designated Federal Officer, at that time, may provide additional guidance on the submission of written statements that are in response to the stated agenda for the planned meeting in question.

Dated: June 16, 2008.
Patricia L. Toppings,
OSD Federal Register Liaison Officer, Department of Defense.

[FR Doc. E8-13992 Filed 6-19-08; 8:45 am]

BILLING CODE 5001-06-P